NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 5, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Research Service (N1-310-09-1, 1 item, 1 temporary item). Records relating to volunteers serving at the U.S. Arboretum, including such files as applications and records of hours worked.

2. Department of the Army, Agency-wide (N1-AU-09-12, 1 item, 1 temporary item). Master files of an electronic information system that contains information concerning the scheduling of training events, such as lesson plans, lists of required resources, and user identification data.

3. Department of the Army, Agency-wide (N1-AU-09-13, 1 item, 1 temporary item). Master files of an electronic information system that contains field artillery simulation training data, including scenarios, threat conditions, and geographic parameters.

4. Department of the Army, Agency-wide (N1-AU-09-14, 1 item, 1 temporary item). Master files of an electronic information system that contains distributed learning courseware and includes such data as name of developer, development completion dates, and contract award information.

5. Department of the Army, Agency-wide (N1-AU-09-15, 1 item, 1 temporary item). Master files of an electronic information system that contains combat training simulation data, such as battle scenarios and tactics, weapons system descriptions, and force structure information.

6. Department of the Army, Agency-wide (N1-AU-09-17, 1 item, 1 temporary item). Master files of an electronic information system that contains information concerning the accreditation of Army training schools, including assessments and evaluations of instructors, services, facilities, and equipment.

7. Department of the Army, Agency-wide (N1-AU-09-18, 1 item, 1 temporary item). Master files of an electronic information system that contains Training and Doctrine Command budget distribution data, including information concerning transactions, release of funds, and budget reporting.

8. Department of the Army, Agency-wide (N1-AU-09-31, 1 item, 1 temporary item). Master files of an electronic information system that contains assessment data on Army leaders, such as evaluation reports, rating sheets, and reaction test observations.

9. Department of Defense, Agency-wide (N1-330-08-4, 55 items, 33 temporary items). Visual information products, such as photographs, video recordings, motion pictures, sound recordings, and graphic arts, and related production materials that do not meet specified criteria for permanent retention. Visual information products proposed for permanent retention include, but are not limited to, records that depict such activities and subjects as engagements with enemy forces, rescues, boarding of vessels, battle damage to buildings and weapons systems, the capture of enemy personnel, truce negotiations and signings, significant exercises, and visits of high level officials.

10. Department of Defense, Office of the Secretary (N1-330-09-3, 1 item, 1 temporary item). Master files of electronic information system that contains information on participants in a scholarship program administered by the agency for students in scientific and technical disciplines. These records include biographical information, data concerning participating institutions, and funding data.

11. Department of Defense, Office of the Secretary (N1-330-09-4, 1 item, 1 temporary item). Master files of electronic information system that is used to track and clear shipments and materials entering the Pentagon. Records include vehicle tracking data, arrival and departure times, and waybill numbers.

12. Department of Defense, Defense Security Service (N1-446-09-3, 2 items, 1 temporary item). Case files on foreign companies that supply goods and services to the Department of Defense. Guidance and instructions for the operation on the Foreign Supplier Assessment Program are proposed for permanent retention.

13. Department of Defense, National Geospatial Intelligence Agency (N1-537-05-3, 9 items, 6 temporary items). Records relating to the production of finished intelligence, including such records as working files, presentations conducted at lower level organizations, and extra copies of finished intelligence products. Proposed for permanent retention are files on special projects, finished intelligence products and the imagery and data associated with them, and electronic finding aids.

14. Department of Defense, National Security Agency (N1-457-07-1, 146 items, 113 temporary items). Records relating to administrative management, including such records as operational summaries and reports accumulated by lower echelon offices, program planning and budget formulation files accumulated by lower echelon offices, personnel-related records such as award and promotion files, files relating to financial controls and other financial matters, physical and information security records, printing and publications records, and files concerning telecommunications. Also included are working files, schedules of daily activities, and correspondence files accumulated by offices that are not responsible for agency-wide policy formulation. Proposed for permanent retention are such records as policy files accumulated by offices responsible for policy formulation, operational summaries and reports and program planning and budget formulation files accumulated in high level offices, files on special projects, historical program records, publications, security policy files, and files relating to personnel policies and procedures.

15. Department of Energy, Office of Inspector General (N1-434-09-2, 3 items, 3 temporary items). Records relating to firearms, including such records as receipts for weapons and related equipment, logs used to maintain accountability, and training and qualifications rosters.

16. Department of Energy, Office of Inspector General (N1-434-09-3, 1 item, 1 temporary item). Files relating to allegations that do not result in an Office of Inspector General audit, including matters referred to other offices for action.

17. Department of Homeland Security, Agency-wide (N1-563-09-8, 3 items, 3 temporary items). Master files and outputs associated with an electronic information system that tracks redress requests received from individuals who were denied from or delayed in boarding transportation or entry into or departure from the United States or were identified for secondary screening.

18. Department of Homeland Security, Domestic Nuclear Detection Office (N1-563-09-9, 1 item, 1 temporary item). Master files associated with an electronic information system that contains information concerning the facilities and equipment used by Federal, State, and local government entities for nuclear detection activities.

19. Department of Homeland Security, Office of Policy (N1-563-09-3, 12 items, 4 temporary items). Records of the Office of Immigration Statistics. Included are such records as requests for immigration statistics, background materials used to produce publications, statistics relating to aliens admitted to the United States for temporary periods, and a static version of the Yearbook of Immigration Statistics as published beginning in 2004. Proposed for permanent retention are such records as the Yearbook of Immigration Statistics, including an electronic version, earlier publications containing immigration statistics, narrative annual reports concerning immigration, and detailed statistics concerning immigrants who arrived between 1895 and 1946.

20. Department of Homeland Security, Immigration and Customs Enforcement (N1-567-08-1, 8 items, 5 temporary items). Records concerning health care provided to persons in the custody of or detained by the agency. Included are such records as medical records of individual persons and data bases containing health information, statistical reports created from electronic versions of individual medical records, annual narrative reports concerning tuberculosis and infectious disease surveillance, and copies of detainee death statistics that are transferred to the Department of Justice (Justice Department statistical reports that include this data were previously approved as permanent). Proposed for permanent retention are such records as statistics concerning tuberculosis and infectious disease surveillance, death statistics not transferred to the Justice Department, and the Medical Program Operations Workload Database, which contains workload and productivity data gathered by all agency-staffed sites that provide medical care.

21. Department of the Interior, Office of the Secretary (N1-48-08-23, 1 item, 1 temporary item). Electronic data concerning the department's environmental liabilities, including such data as site information, type of contamination, site prioritization, and cost estimates. This information is used in connection with the preparation of annual financial statements.

22. Department of the Interior, Bureau of Reclamation (N1-115-09-4, 1 item, 1 temporary item). Master files associated with an electronic information system that contains data concerning government-owned land and land rights.

23. Department of the Interior, National Park Service (N1-79-08-2, 5 items, 3 temporary items). Files relating to routine law enforcement activities and the provision of emergency medical services. Proposed for permanent retention are policy and planning records relating to law enforcement and protective services and files on significant investigation and activities, such as files that document incidents involving significant damage to cultural or natural resources and files on matters that received widespread media attention.

24. Department of Justice, Justice Management Division (N1-60-09-15, 5 items, 5 temporary items). Inputs, outputs, and master files associated with an electronic information system used for telecommunications billings.

25. Department of Justice, Justice Management Division (N1-60-09-16, 2 items, 2 temporary items). Master files and outputs associated with an electronic information system that contains statistical data concerning agency employees.

26. Department of Justice, Bureau of Prisons (N1-129-09-11, 1 item, 1 temporary item). Criminal investigation case files concerning crimes committed in Federal prisons. Historically significant files will be brought to NARA's attention and appraised on a case-by-case basis.

27. Department of Justice, Bureau of Prisons (N1-129-09-20, 1 item, 1 temporary item). Electronic document management and case tracking system used for labor law cases.

28. Department of Justice, Bureau of Prisons (N1-129-09-21, 5 items, 5 temporary items). Files accumulated by the General Counsel. Included are jurisdiction files that relate to whether the Federal Government will have exclusive jurisdiction over an institution or whether jurisdiction will be shared with a State government, background files on subjects of interest to staff members, and an electronic document management and case tracking system used for litigation involving agency acquisitions and financial operations.

29. Department of Justice, Bureau of Prisons (N1-129-09-22, 2 items, 2 temporary items). Electronic document management and case tracking system used for litigation cases and administrative claims, including litigation involving agency programs and policies.

30. Department of Justice, Federal Bureau of Investigation (N1-65-07-13, 4 items, 4 temporary items). Records relating to the Computer Information Comparison Program, a program under which commercial and governmental databases are searched to match data and locate missing persons and stolen property. Included are such records as agreements between the agency and other entities, communications disseminating the results of matches, and master files containing data concerning the parameters of searches and information on dollar amounts saved or recovered as a result of searches.

31. Department of Justice, Federal Bureau of Investigation (N-65-09-12, 3 items, 3 temporary items). Records of the Office of Integrity and Compliance, including files relating to assessments of the agency's compliance with applicable laws and regulations, compliance concerns reported to the Office, and concerns reported via a contractor-operated hotline.

32. Department of Justice, Federal Bureau of Investigation (N1-65-09-14, 15 items, 15 temporary items). Human resources records not covered by the General Records Schedules, including such records as files relating to employee assistance programs, applicant processing, leave, internships, relocation, special agent selection grievances, and military reserve matters.

33. Department of Justice, Federal Bureau of Investigation (N1-65-09-19, 1 item, 1 temporary item). Non-disclosure statements for selection tests and interviews completed by applicants for positions.

34. Department of the Navy, Naval Criminal Investigative Service (N1-NU-09-5, 1 item, 1 temporary item). Technical support records associated with polygraph examinations.

35. Department of State, Bureau of Consular Affairs (N1-59-09-9, 1 item, 1 temporary item). Master files associated with an electronic information system used to track and monitor the status of adoption cases that involve emigration from or immigration to the United States.

36. Department of State, Bureau of Consular Affairs (N1-59-09-28, 1 item, 1 temporary item). Master files associated with an electronic information system used to track the application process of exchange visitors who seek a waiver from the two year residency requirements included in the Immigration and Nationality Act.

37. Department of State, Bureau of Diplomatic Security (N1-59-09-18, 1 item, 1 temporary item). Master files associated with an electronic information system that contains data collected from overseas facilities concerning crimes and security incidents.

38. Department of the Treasury, Internal Revenue Service (N1-58-09-25, 1 item, 1 temporary item). Forms used to report actions of taxpayers which indicate that that individual should be approached with caution.

39. Department of the Treasury, Internal Revenue Service (N1-58-09-26, 1 item, 1 temporary item). Master files of an electronic information system that is used to maintain, distribute, and track documents and responses relating to IRS Modernization and Information Services.

40. Department of the Treasury, Internal Revenue Service (N1-58-09-27, 1 item, 1 temporary item). Master files of an electronic information system used to identify individuals who did not accurately report income derived from tips.

41. Department of the Treasury, Internal Revenue Service (N1-58-09-29, 2 items, 2 temporary items). Inputs and master files associated with an electronic information system that tracks contacts made by the agency with individuals other than the taxpayer whose tax liability is the subject of the requests.

42. Agency for International Development, Office of Human Resources (N1-286-09-1, 1 item, 1 temporary item). Electronic data concerning agency personnel used to facilitate human resources processes.

43. Federal Housing Finance Agency, Office of the General Counsel (N1-543-09-1, 1 item, 1 temporary item). Administrative hearing and litigation case files relating to cases in which the agency is a party or has an interest.

44. National Archives and Records Administration, Office of Records Services—Washington, D.C. (N1-64-09-3, 3 items, 3 temporary items). Master files and other records associated with an electronic information system used to process and track Freedom of Information Act requests that involve records that are not security classified.

45. National Archives and Records Administration, Office of Records Services—Washington, D.C. (N1-64-09-4, 3 items, 3 temporary items). Master files and other records associated with an electronic information system used to process and track declassification review projects and Freedom of Information Act and Mandatory Review requests that involve security classified records.

46. Office of the Director of National Intelligence, National Counterintelligence Executive (N1-576-08-5, 38 items, 16 temporary items). Records relating to facilitating U.S. counterintelligence efforts, including such materials as administrative records, attorney's working files, reference materials, extra copies of facilities information, non-substantive drafts and work papers, and background materials relating to counterintelligence matters including training. Also included are non-precedent setting determinations as to whether companies seeking to do business with the U.S. Intelligence Community pose security threats, and non-precedent setting assessments as to whether foreign financial interests seeking to invest in U.S. businesses represent a security threat. Proposed for permanent retention are precedent-setting determinations and assessments of companies and foreign financial interests. Also proposed for permanent retention are such records as controlled communications documenting the organization's mission, agendas and minutes of the National Counterintelligence Policy Board, periodic reports to Congress, working group records, evaluations of counterintelligence plans of other Federal agencies, research reports relating to counterintelligence training, record copies of counterintelligence course material, damage assessment case files and other records relating to counterintelligence breaches throughout the Federal government, records relating to technology and counterintelligence efforts, strategic policy and planning records, and substantive work papers.

47. Office of the Director of National Intelligence, Country Mission Managers (N1-576-09-2, 5 items, 1 temporary item). Non-substantive working papers relating to integrating collection and analysis on specific countries across the Intelligence Community. Proposed for permanent retention are program subject files, substantive working papers, controlled communications, and the files of boards and working groups comprised of senior officials.

48. Tennessee Valley Authority, Information Management (N1-142-09-4, 1 item, 1 temporary item). Records associated with an electronic information system that consolidates multiple work and management processes. Records relate to the management of physical plant, and work force assets related to such activities as power generation, transmission, and distribution, water treatment, and the operation of facilities and vehicles.

49. Western Area Power Administration, Agency-wide (N1-201-09-1, 5 items, 5 temporary items). Inputs, outputs, and master files associated with an electronic information system that is used for managing business process, payments, disbursements, assets, revenues, and other financial matters.

Dated: June 29, 2009.
Sharon G. Thibodeau,
Deputy Assistant Archivist for Records Services—Washington, DC.

[FR Doc. E9-15833 Filed 7-2-09; 8:45 am]

BILLING CODE 7515-01-P